DEPARTMENT OF ENERGY

10 CFR Part 810

RIN 1994-AA06

Assistance to Foreign Atomic Energy Activities

AGENCY: National Nuclear Security Administration (NNSA), Department of Energy (DOE).

ACTION: Final rule.

SUMMARY: On September 4, 2025, the Secretary of Energy (“Secretary”) issued a Determination generally authorizing the destinations of the Philippines and Singapore for exports of controlled nuclear technology and assistance under DOE's regulation on Assistance to Foreign Atomic Energy Activities. Accordingly, DOE is issuing this final rule to add the Philippines and Singapore to the generally authorized destinations list in appendix A.

DATES: This rule is effective on November 24, 2025.

FOR FURTHER INFORMATION CONTACT: Mr. Richard Goorevich, Assistant Deputy Administrator, Office of Nonproliferation and Arms Control (NPAC), National Nuclear Security Administration, Department of Energy, 1000 Independence Avenue SW, Washington, DC 20585, telephone (202) 586-6836, richard.goorevich@nnsa.doe.gov; Mr. Stephen Markus, Office of the General Counsel, GC-74, Department of Energy, 1000 Independence Avenue SW, Washington, DC 20585, telephone (240) 243-3387, stephen.markus@hq.doe.gov; or Mr. Zachary Stern, Office of the General Counsel, National Nuclear Security Administration, Department of Energy, 1000 Independence Avenue SW, Washington, DC 20585, telephone (202) 586-8627, zachary.stern@nnsa.doe.gov.

SUPPLEMENTARY INFORMATION:

I. Background and Discussion of Final Rule

II. Good Cause for Dispensing With Notice and Comment

III. Regulatory Review

IV. Approval of the Office of the Secretary

I. Background and Discussion of Final Rule

On September 4, 2025, the Secretary issued a “determination and authorization pursuant to section 57 b.(2) of the Atomic Energy Act of 1954, as amended, regarding exports of nuclear technology and assistance to the Philippines and Singapore,” which was published in the Federal Register on September 16, 2025 (90 FR 44651). Section 57b.(2) of the Atomic Energy Act of 1954, as amended (“AEA”) (42 U.S.C. 2077(b)(2)), enables peaceful nuclear trade by helping to assure that nuclear technology exports from the United States will not be used for non-peaceful purposes.

Part 810 of title 10, Code of Federal Regulations (“part 810”) implements section 57 b.(2) of the AEA, pursuant to which the Secretary has granted a general authorization for certain categories of activities that the Secretary has found to be non-inimical to the interest of the United States—including assistance or transfers of technology to the generally authorized destinations listed in appendix A to part 810. In light of the Secretary's Determination to generally authorize the Philippines and Singapore to cover exports of part 810-controlled nuclear technology and assistance, DOE is amending the generally authorized destinations list in appendix A by adding the Philippines and Singapore.

II. Good Cause for Dispensing With Notice and Comment

In accordance with the Administrative Procedure Act (APA), an agency may waive the notice and comment procedure if it finds, for good cause, that it is “impracticable, unnecessary, or contrary to the public interest.” 5 U.S.C. 553(b). Additionally, 5 U.S.C. 553(d) provides that an agency may waive the 30-day delayed effective date upon finding of good cause.

DOE finds good cause that notice and comment for this rule is unnecessary due to the nature of the revisions. This final rule simply makes ministerial changes to appendix A by adding the Philippines and Singapore to the generally authorized destinations list. Comments cannot alter the regulation given that the generally authorized destination status for the Philippines and Singapore has already been made effective through the Secretarial Determination issued on September 4, 2025 and published on September 16, 2025, at 90 FR 44651.

Accordingly, DOE has concluded that there is good cause to publish this final rule without prior opportunity for public comment because the action merely aligns appendix A with the Secretarial Determination. A delay in effective date is unnecessary for these same reasons. Therefore, these amendments are published as final and are effective November 24, 2025.

III. Regulatory Review

A. Executive Order 12866 and 13563

Executive Order (E.O.) 12866, “Regulatory Planning and Review,” 58 FR 51735 (Oct. 4, 1993), as supplemented and reaffirmed by E.O. 13563, “Improving Regulation and Regulatory Review,” 76 FR 3821 (Jan. 21, 2011) requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits (including potential economic, environmental, public health and safety, and other advantages; distributive impacts; and equity); (4) to the extent feasible, specify performance objectives, rather than specifying the behavior or manner of compliance that regulated entities must adopt; and (5) identify and assess available alternatives to direct regulation, including providing economic incentives to encourage the desired behavior, such as user fees or marketable permits, or providing information upon which choices can be made by the public.

DOE emphasizes as well that E.O. 13563 requires agencies to use the best available techniques to quantify anticipated present and future benefits and costs as accurately as possible. In its guidance, the Office of Information and Regulatory Affairs (OIRA) in the Office of Management and Budget (“OMB”) has emphasized that such techniques may include identifying changing future compliance costs that might result from technological innovation or anticipated behavioral changes. For the reasons stated in the preamble, this final rule is consistent with these principles.

Section 6(a) of E.O. 12866 also requires agencies to submit “significant regulatory actions” to OIRA for review. OIRA has determined that this regulatory action does not constitute a “significant regulatory action” under E.O. 12866. Accordingly, this action was not submitted to OIRA for review under E.O. 12866

B. Additional Executive Orders and Presidential Memoranda

DOE has examined this final rule and has determined that it is consistent with the policies and directives outlined in E.O. 14154 “Unleashing American Energy,” E.O. 14192, “Unleashing Prosperity Through Deregulation,” and Presidential Memorandum, “Delivering Emergency Price Relief for American Families and Defeating the Cost-of-Living Crisis.”

C. National Environmental Policy Act

DOE has determined that this rule is covered under the Categorical Exclusion found in DOE's National Environmental Policy Act regulations at paragraph A5 of appendix A to subpart D, 10 CFR part 1021, which applies to a rulemaking that amends an existing rule or regulation and that does not change the environmental effect of the rule or regulation being amended. Accordingly, neither an environmental assessment nor an environmental impact statement is required.

D. Regulatory Flexibility Act

The Regulatory Flexibility Act (5 U.S.C. 601 et seq.) requires preparation of an initial regulatory flexibility analysis for any rule that, by law, must be proposed for public comment, unless the agency certifies that the rule, if promulgated, will not have a significant economic impact on a substantial number of small entities. As discussed previously, DOE has determined that providing notice and opportunity for public comment on this final rule is unnecessary. Therefore, no regulatory flexibility analysis has been prepared for this final rule.

The changes to appendix A are summarized in section I of this document. DOE has reviewed the changes under the provisions of the Regulatory Flexibility Act and the procedures and policies published on February 19, 2003. The changes update the list of generally authorized destinations. They do not expand the scope of activities currently regulated under part 810.

DOE estimates that approximately 10 percent of the entities impacted by part 810 are small businesses, which generally fall within two North American Industry Classification System codes: engineering services (541330) and computer systems designs services (541512). Often, their requests for authorization include the transfer of computer codes or other similar products. Generally speaking, small businesses reported that their initial filing of a part 810 request for authorization required up to 40 hours of legal assistance, but follow-on reporting and requests required significantly less assistance.

The requirements for small businesses exporting nuclear technology abroad would not substantively change because the revisions to this rule do not add new burdens or duties to small businesses. The obligations of any person subject to the jurisdiction of the United States who engages directly or indirectly in the development or production of special nuclear material outside the United States have not changed in a manner that would provide any significant economic impact on small businesses. This rulemaking change no longer requires such persons to obtain specific authorization before making such transfers to the Philippines and Singapore, and this change is not expected to have any significant impact. This rulemaking no longer requires such persons to obtain specific authorization before making such transfers to the Philippines and Singapore, which is expected to ease the burden on small businesses.

On the basis of the foregoing, DOE certifies this final rule would not have a significant economic impact on a substantial number of small entities. Accordingly, DOE has not prepared a regulatory flexibility analysis for this rulemaking.

E. Paperwork Reduction Act

This final rule imposes no information collection or recordkeeping requirements under the Paperwork Reduction Act (44 U.S.C. 3501 et seq.).

F. Unfunded Mandates Reform Act of 1995

The Unfunded Mandates Reform Act of 1995 (UMRA) requires each Federal agency to assess the effects of Federal regulatory actions on State, local, and Tribal governments, and the private sector. Public Law 104-4, sec. 201 (codified at 2 U.S.C. 1531). For regulatory actions likely to result in a rule that may cause the expenditure by State, local, and Tribal governments, in the aggregate, or by the private sector of $100 million or more in any one year (adjusted annually for inflation), section 202 of UMRA requires a Federal agency to publish a written statement that estimates the resulting costs, benefits, and other effects on the national economy (2 U.S.C. 1532(a),(b)). DOE examined this rule according to UMRA and its statement of policy and has determined that the rule contains neither an intergovernmental mandate, nor a mandate that may result in the expenditure by State, local, and Tribal government, in the aggregate, or by the private sector, of $100 million or more in any year. Accordingly, no further assessment or analysis is required under UMRA.

G. Executive Order 13132

Executive Order 13132, “Federalism,” 64 FR 43255 (August 4, 1999) imposes certain requirements on agencies formulating and implementing policies or regulations that preempt State law or that have federalism implications. Agencies are required to examine the constitutional and statutory authority supporting any action that would limit the policymaking discretion of the States and carefully assess the necessity for such actions. DOE has examined this final rule and has determined that it would not preempt State law and would not have a substantial direct effect on the States, on the relationship between the national government and the States, or on the distribution of power and responsibilities among the various levels of government. No further action is required under Executive Order 13132.

H. Treasury and General Government Appropriations Act, 1999

Section 654 of the Treasury and General Government Appropriations Act, 1999 (Pub. L. 105-277) requires Federal agencies to issue a Family Policymaking Assessment for any rulemaking that may affect family well-being. This final rule would have no impact on the autonomy or integrity of the family as an institution. Accordingly, DOE has concluded that it is not necessary to prepare a Family Policymaking Assessment.

I. Executive Order 13211

Executive Order 13211, “Actions Concerning Regulations That Significantly Affect Energy, Supply, Distribution, or Use,” 66 FR 28355 (May 22, 2001) requires Federal agencies to prepare and submit to OMB a Statement of Energy Effects for any significant energy action. A “significant energy action” is defined as any action by an agency that promulgated or is expected to lead to promulgation of a final rule, and that: (1) is a significant regulatory action under Executive Order 12866, or any successor order; and (2) is likely to have a significant adverse effect on the supply, distribution, or use of energy; or (3) is designated by the Administrator of OIRA as a significant energy action. For any proposed significant energy action, the agency must give a detailed statement of any adverse effects on energy supply, distribution, or use should the proposal be implemented, and of reasonable alternatives to the action and their expected benefits on energy supply, distribution, and use. This regulatory action would not have a significant adverse effect on the supply, distribution, or use of energy and is therefore not a significant energy action. Accordingly, DOE has not prepared a Statement of Energy Effects.

J. Treasury and General Government Appropriations Act, 2001

The Treasury and General Government Appropriations Act, 2001 (44 U.S.C. 3516 note) provides for agencies to review most disseminations of information to the public under guidelines established by each agency pursuant to general guidelines issued by OMB. OMB's guidelines were published at 67 FR 8452 (February 22, 2002), and DOE's guidelines were published at 67 FR 62446 (October 7, 2002). DOE has reviewed this final rule under the OMB and DOE guidelines and has concluded that it is consistent with applicable policies in those guidelines.

K. Congressional Notification

As required by 5 U.S.C. 801, DOE will submit to Congress a report regarding the issuance of this final rule prior to the effective date set forth at the outset of this rule. The report will state that it has been determined that the rule is not a “major rule” as defined by 5 U.S.C. 801 804(2).

IV. Approval of the Office of the Secretary

The Secretary of Energy has approved publication of this final rule.

List of Subjects in 10 CFR Part 810

Foreign relations, Nuclear energy, Reporting and recordkeeping requirements.

Signing Authority

This document of the Department of Energy was signed on September 4, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 20, 2025.
Treena V. Garrett,
Federal Register Liaison Officer, U.S. Department of Energy.

For the reasons set forth in the preamble, the Department of Energy amends part 810 of chapter III of title 10 of the Code of Federal Regulations as set forth below.

PART 810—ASSISTANCE TO FOREIGN ATOMIC ENERGY ACTIVITIES

1. The authority citation for part 810 continues to read as follows:

Authority: Secs. 57, 127, 128, 129, 161, 222, and 232 AEA, as amended by the Nuclear Nonproliferation Act of 1978, Pub. L. 95-242, 68 Stat. 932, 948, 950, 958, 92 Stat. 126, 136, 137, 138 (42 U.S.C. 2077, 2156, 2157, 2158, 2201, 2272, 2280, 2282), and the Intelligence Reform and Terrorism Prevention Act of 2004, Pub. L. 108-458, 118 Stat. 3768, and sec. 3116 of the John S. McCain National Defense Authorization Act for Fiscal Year 2019, Pub. L. 115-232; Sec. 104 of the Energy Reorganization Act of 1974, Pub. L. 93-438; Sec. 301, Department of Energy Organization Act, Pub. L. 95-91; National Nuclear Security Administration Act, Pub. L. 106-65, 50 U.S.C. 2401 et seq., as amended.

Appendix A to Part 810 [Amended]

2. Appendix A to part 810 is amended by:

a. Adding “The Philippines” between “Norway” and “Poland.”; and

b. Adding “Singapore” between “Romania” and “Slovakia”.

[FR Doc. 2025-20788 Filed 11-21-25; 8:45 am]

BILLING CODE 6450-01-P